NEIGHBORHOOD REINVESTMENT CORPORATION

Corporate Administration Committee Board of Directors Meeting; Sunshine Act

TIME and DATE: 2:00 p.m., Monday, January 14, 2013.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call to Order

II. Officer Performance Reviews

III. Human Resources Update

IV. Corporate Administration Committee Charter

V. Adjournment

Erica Hall,
Assistant Corporate Secretary.

[FR Doc. 2013-00301 Filed 1-7-13; 11:15 am]

BILLING CODE 7570-02-P